ENVIRONMENTAL PROTECTION AGENCY

[FRL-8161-4]

Hazardous Waste Management System; Notice of Availability of EPA's Manifest Registry

AGENCY: Environmental Protection Agency.

ACTION: Notice announcing the Activation of EPA's Manifest Registry.

SUMMARY: This notice announces that EPA is accepting applications from organizations seeking to become registered printers and distributors of the new national Uniform Hazardous Waste Manifest.

FOR FURTHER INFORMATION CONTACT: Questions pertaining to this notice or on EPA's Manifest Registry in general may be directed to Wanda LeBleu in EPA's Office of Solid Waste at (703) 308-0438 or to lebleu.wanda@epa.gov.

SUPPLEMENTARY INFORMATION:

On March 4, 2005, the U.S. Environmental Protection Agency published regulations modifying the hazardous waste manifest system in several ways (70 FR 10814). Among other things, EPA standardized the content and appearance of the Uniform Hazardous Waste Manifest and continuation sheet (EPA Forms 8700-22 and 8700-22A). EPA also established a registry process at 40 CFR 262.21 for organizations (e.g., States, waste management companies, industrial facilities and commercial printers) to apply to EPA to print the new manifest for use and distribution. Anyone who wants to print and distribute the new forms first must obtain approval from EPA.

To assist in implementing the new manifest rule, EPA recently posted a new Manifest Registry Web site at: http://www.epa.gov/epaoswer/hazwaste/gener/manifest/registry/index.htm.

This Web site is designed to provide instructions to prospective printers to prepare their application to EPA, assist the public in obtaining the new manifests, and assist waste handlers in completing their manifests.

In the March 4, 2005 final rule, EPA established a compliance date of September 5, 2006 for use of the new manifest and continuation sheet. Beginning on this date, waste shipments must use the new forms in all States. It is important to note that States will no longer be the exclusive source of blank forms—forms from any approved printer will be valid.

This notice announces that EPA is accepting applications from organizations who seek to be approved under the registry process to print and distribute the new national uniform hazardous waste manifest. The application process consists of two steps: (1) An initial application, and (2) submission of form samples. The initial application provides general information on the applicant's organization (e.g., contact information and description of printing operations). EPA will review this initial application and either approve it or request additional information. Once the initial application is complete, EPA will either approve the application or deny it. After approval of the initial application, EPA will send the applicant electronic files of the manifest and continuation sheet in Adobe Portable Document Format (PDF) and request several samples of the forms complying with the print requirements of § 262.21(f), as well as a brief description of these samples (e.g., indication of the paper type used). EPA will evaluate the samples in accordance with the print requirements in the manifest regulations, and either approve the applicant to print the forms for use and distribution, or indicate why the forms do not qualify for approval.

Once an applicant is approved, EPA will add that organization's information to the Table of Registered Printers on the Web site, and will indicate whether that printer is offering its manifest forms for sale to the general public. A waste handler can obtain forms from any printing source approved by EPA.

Dated: April 3, 2006.
Matt Hale,
Director, Office of Solid Waste.

[FR Doc. E6-6185 Filed 4-25-06; 8:45 am]

BILLING CODE 6560-50-P